DEPARTMENT OF ENERGY

Environmental Management Site-Specific Advisory Board, Hanford

AGENCY: Department of Energy.

ACTION: Notice of Cancellation of Open Meeting.

SUMMARY: On August 21, 2017, the Department of Energy (DOE) published a notice of open meeting announcing a meeting on September 6-7, 2017, of the Environmental Management Site-Specific Advisory Board, Hanford. This notice announces the cancellation of this meeting.

DATES: The meeting scheduled for September 6-7, 2017, announced in the August 21, 2017, issue of the Federal Register (FR Doc. 2017-17600, 82 FR 39572), is cancelled.

FOR FURTHER INFORMATION CONTACT: Kristen Holmes, Federal Coordinator, Department of Energy Richland Operations Office, P.O. Box 550, H5-20, Richland, WA, 99352; Phone: (509) 376-5803; or Email: kristen.l.holmes@rl.doe.gov.

Issued at Washington, DC, on August 24, 2017.
LaTanya R. Butler,
Deputy Committee Management Officer.

[FR Doc. 2017-18598 Filed 8-31-17; 8:45 am]

BILLING CODE 6450-01-P